DEPARTMENT OF LABOR

Employment and Training Administration

Investigations Regarding Certifications of Eligibility To Apply for Worker Adjustment Assistance

Petitions have been filed with the Secretary of Labor under Section 221(a) of the Trade Act of 1974 (“the Act”) and are identified in the appendix to this notice. Upon receipt of these petitions, the director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 26, 2004.

Interested persons are invited to submit written comments regarding the subject matter of the investigations to the Director, Division of Trade Adjustment Assistance, at the address shown below, not later than January 26, 2004.

The petitions filed in this case are available for inspection at the Office of the Director, Division of Trade Adjustment Assistance, Employment and Training Administration, U.S. Department of Labor, Room C-5311, 200 Constitution Avenue, NW., Washington, DC 20210.

Signed at Washington, DC, this 5th day of January 2004.
Timothy Sullivan,
Director, Division of Trade Adjustment Assistance.

Appendix
[Petitions instituted between 12/15/03 and 12/19/03]
TA-W | Subject firm (petitioners) | Location | Date of institution | Date of petition
53,796 | Sandvik Mining and Tunneling, LLC (Union) | Bluefield, WV | 12/15/03 | 12/12/03
53,797 | Westpoint Stevens (Comp.) | Valley, AL | 12/15/03 | 12/10/03
53,798 | Mohican Mills/Fab Industries (Wkrs.) | Lincolnton, NC | 12/15/03 | 12/11/03
53,799 | Hoffman Carbon Inc. (Comp.) | Bradford, PA | 12/15/03 | 12/12/03
53,800 | Schroeder and Tremayne Inc. (State) | St. Louis, MO | 12/15/03 | 12/12/03
53,801 | Aneco Trousers Corp. (Comp.) | Hanover, PA | 12/15/03 | 12/09/03
53,802 | J and L Specialty Steel, LLC (Union) | Moon Township, PA | 12/15/03 | 12/04/03
53,803 | FlisCinKim, Inc. (Comp.) | Ft. Payne, AL | 12/15/03 | 12/08/03
53,804 | Keef Hosiery (Comp.) | Ft. Payne, AL | 12/15/03 | 12/10/03
53,805 | Encompass Group, LLC (Comp.) | Clio, AL | 12/15/03 | 12/12/03
53,806 | Bostik Findley, Inc. (Wkrs.) | Clarks Summit, PA | 12/15/03 | 12/01/03
53,807 | Permabond Div. National Starch (Comp.) | Bridgewater, NJ | 12/15/03 | 12/15/03
53,808 | GMJ Wood Products (Comp.) | Kingsford, MI | 12/15/03 | 12/11/03
53,809 | LTV Cooperweld (USWA) | Piqua, OH | 12/16/03 | 12/15/03
53,810 | Orica USA, Inc. (Wkrs.) | Frankfort, KY | 12/16/03 | 11/19/03
53,811 | Winkelman Photography (Comp.) | Oak Park, IL | 12/16/03 | 12/05/03
53,812 | Advance Transformer Co. (Wkrs.) | Wartburg, TN | 12/16/03 | 11/25/03
53,813 | Xtex Inc. (Comp.) | Greenville, SC | 12/16/03 | 12/12/03
53,814 | Orcon Corporation (GA) | Kennesaw, GA | 12/16/03 | 12/02/03
53,815 | Rowan Regional Medical Center (Comp.) | Salisbury, NC | 12/16/03 | 12/01/03
53,816 | Tellabs (Wkrs.) | Lisle, IL | 12/16/03 | 12/12/03
53,817 | Tyco Electronics-Gadan (Comp.) | Franklin, KY | 12/16/03 | 11/17/03
53,818 | Gross National Product, LLC (Comp.) | Elmhurst, NY | 12/17/03 | 12/16/03
53,819 | APL Logistics (Wkrs) | Socorro, TX | 11/17/03 | 11/12/03
53,820 | Riverdeep, Inc. (Wkrs.) | Novato, CA | 12/17/03 | 12/09/03
53,821 | Parker Hannifin Co. (Union) | Green Camp, OH | 12/17/03 | 12/16/03
53,822 | Flint River Textiles (Comp.) | Albany, GA | 12/17/03 | 12/16/03
53,823 | Cooper Wood Products () | Rocky Mount, VA | 12/17/03 | 12/16/03
53,824 | J and T Trading Co. (Comp.) | Charlotte, NC | 12/17/03 | 12/16/03
53,825 | Georgia Pacific Resins (Wkrs) | White City, OR | 12/17/03 | 12/01/03
53,826 | Flex-N-Gate, LLC (Union) | Warren, MI | 12/17/03 | 12/15/03
53,827 | Bridgestone/Firestone (Union) | Bloomington, IL | 12/18/03 | 12/18/03
53,828 | Parallax Power Components, LLC (Comp.) | Goodland, IN | 12/18/03 | 12/15/03
53,829 | Micro Contacts (Wkrs.) | Warwick, RI | 12/18/03 | 11/18/03
53,830 | J.S. Technos Corp./Robert Bosch (Comp.) | Russellville, KY | 12/18/03 | 12/12/03
53,831 | Green Tree Chemical Technologies, Inc | Parlin, NJ | 12/18/03 | 12/17/03
53,832 | Morrill Motors Inc. (Comp.) | Sneedville, TN | 12/18/03 | 12/17/03
53,833 | Star Machine Shop (Wkrs.) | Galax, VA | 12/18/03 | 12/17/03
53,834 | Snap-on Tools (Union) | Mt. Carmel, IL | 12/18/03 | 12/17/03
53,835 | Davidson Printing/Graphic Digital Imagin (Wkr.) | Duluth, MN | 12/18/03 | 12/17/03
53,836 | Olon Industries (Wkrs.) | Mocksville, NC | 12/18/03 | 12/05/03
53,837 | SPX Dock Products (State) | Milwaukee, WI | 12/18/03 | 12/03/03
53,838 | ATT-Wah Chang (Comp.) | Albany, OR | 12/18/03 | 12/16/03
53,839 | Benitez Inc. (Comp.) | Corpus Chrisi, TX | 12/18/03 | 12/16/03
53,840 | American Eagle Airlines (Comp.) | Lawton, OK | 12/18/03 | 12/16/03
53,841 | Komo Machine (Wkrs.) | Sank Rapids, MN | 12/19/03 | 12/17/03
53,842 | Cendant Mobility Services Corp (Comp.) | Danbury, CT | 12/19/03 | 12/17/03
53,843 | Diversified Dynamics Corp. (Wkrs.) | Blaine, MN | 12/19/03 | 12/17/03
53,844 | Hein-Werner (Comp.) | Waukesha, WI | 12/19/03 | 12/15/03
53,845 | Rohn Industries (State) | Frankfort, IN | 12/19/03 | 12/18/03
53,846 | Danly IEM (Comp.) | Cleveland, OH | 12/19/03 | 12/18/03
53,847 | Chicago Rawhide | Frankline, NC | 12/19/03 | 12/18/03
53,848 | Hanes Dye and Finishing (Wkrs.) | Easley, SC | 12/19/03 | 12/11/03

[FR Doc. 04-989 Filed 1-15-04; 8:45 am]

BILLING CODE 4510-30-M